FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 4, 2010.

A. Federal Reserve Bank of Atlanta (Steve Foley, Vice President) 1000 Peachtree Street, N.E., Atlanta, Georgia 30309:

1. Richard T. Alger, the Richard T. Alger Revocable Trust, Richard T. Alger, trustee, and the Mason W. Alger and Dorothy Turner Alger Irrevocable Trust for Thomas M. Alger, Richard T. Alger, trustee, all of Homestead, Florida; to acquire voting shares of Hometown of Homestead Banking Company, and thereby indirectly acquire voting shares of 1st National Bank of South Florida, both of Homestead, Florida.

2. William Hall Losner, Homestead, Florida; to acquire voting shares of Hometown of Homestead Banking Company, and thereby indirectly acquire voting shares of 1st National Bank of South Florida, both of Homestead, Florida.

B. Federal Reserve Bank of Dallas (E. Ann Worthy, Vice President) 2200 North Pearl Street, Dallas, Texas 75201-2272:

1. A.C. Schwethelm, Comfort, Texas; to retain voting shares of, and acquire additional shares of Paint Rock Bancshares, Inc., and thereby indirectly retain voting shares of, and acquire additional voting shares of First State Bank, both of Paint Rock, Texas.

Board of Governors of the Federal Reserve System, January 15, 2010.
Robert deV. Frierson,
Deputy Secretary of the Board.

[FR Doc. 2010-1038 Filed 1-20-10; 8:45 am]

BILLING CODE 6210-01-S